COMMISSION ON CIVIL RIGHTS

Agenda and Notice of Public Meeting of the Delaware Advisory Committee

AGENCY: Commission on Civil Rights.

ACTION: Announcement of meetings.

SUMMARY: Notice is hereby given, pursuant to the provisions of the rules and regulations of the U.S. Commission on Civil Rights (Commission), and the Federal Advisory Committee Act (FACA), that planning meetings of the Delaware Advisory Committee to the Commission will convene by conference call, on the following Wednesdays at 1:00 p.m. (ET): November 4 and December 2, 2020 and January 6 and February 3, 2021. The purpose of the meetings is for project planning and possible selection of project topic and project proposal.

DATES: Wednesdays at 1:00 p.m. (ET), November 4 and December 2, 2020 and January 6 and February 3, 2021.

ADDRESSES: Public Call-In Information: Conference call number: 1-800-367-2403 and conference call ID: 4195799.

FOR FURTHER INFORMATION CONTACT: Ivy L. Davis, at ero@usccr.gov or by phone at 202-376-7533.

SUPPLEMENTARY INFORMATION: Interested members of the public may listen to the discussion by calling the following toll-free conference call number: 1-800-367-2403 and conference call ID: 4195799. Please be advised that before placing them into the conference calls, the conference call operator may ask callers to provide their names, their organizational affiliations (if any), and email addresses (so that callers may be notified of future meetings). Callers can expect to incur charges for calls they initiate over wireless lines, and the Commission will not refund any incurred charges. Callers will incur no charge for calls they initiate over land-line connections to the toll-free telephone number herein.

Individuals who are deaf, deafblind and hard of hearing may also follow the proceedings by first calling the Federal Relay Service at 1-800-877-8339 and providing the Federal Relay Service operator with the conference call-in numbers: 1-800-822-2024 and conference call ID: 4195799.

Members of the public are invited to make brief statements during the Public Comment section of each meeting or to submit written comments. The comments must be received in the regional office approximately 30 days after each scheduled meeting via email to Ivy Davis at ero@usccr.gov.

Records and documents discussed during the meeting will be available for public viewing, as they become available, at www.facadatabase.gov. Persons interested in the work of this advisory committee are advised to go to the Commission's website, www.usccr.gov, or to contact the Eastern Regional Office at the above email address.

Agenda

Wednesdays at 1:00 p.m. (ET): Nov. 4 and Dec. 2, 2020 and Jan. 6 and Feb. 3, 2021

I. Welcome and Roll Call

II. Project Planning

III. Other Business

IV. Next Planning Meeting

V. Public Comments

VI. Adjourn

Dated: November 25, 2020.
David Mussatt,
Supervisory Chief, Regional Programs Unit.

[FR Doc. 2020-26553 Filed 12-1-20; 8:45 am]

BILLING CODE 6335-01-P